DEPARTMENT OF COMMERCE

National Oceanic and Atmospheric Administration

[I.D. 101305A]

Endangered Species; File No. 1552

AGENCY: National Marine Fisheries Service (NMFS), National Oceanic and Atmospheric Administration (NOAA), Commerce.

ACTION: Notice; receipt of application.

SUMMARY: Notice is hereby given that the NMFS, Southeast Fisheries Science Center (SEFSC), 75 Virginia Beach Drive, Miami, Florida 33149, has applied in due form for a permit to take green (Chelonia mydas), loggerhead (Caretta caretta), Kemp's ridley (Lepidochelys kempii), hawksbill (Eretmochelys imbricata), leatherback (Dermochelys coriacea), and olive ridley (Lepidochelys olivacea) sea turtles for purposes of scientific research.

DATES: Written, telefaxed, or e-mail comments must be received on or before November 18, 2005.

ADDRESSES: The application and related documents are available for review upon written request or by appointment in the following office(s):

Permits, Conservation and Education Division, Office of Protected Resources, NMFS, 1315 East-West Highway, Room 13705, Silver Spring, MD 20910; phone (301)713-2289; fax (301)427-2521; and Southeast Region, NMFS, 263 13th Avenue South, St. Petersburg, FL 33701; phone (727)824-5312; fax (727)824-5309.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing email comments is NMFS.Pr1Comments@noaa.gov. Include in the subject line of the e-mail comment the following document identifier: File No. 1552.

FOR FURTHER INFORMATION CONTACT: Patrick Opay or Kate Swails, (301)713-2289.

SUPPLEMENTARY INFORMATION: The subject permit is requested under the authority of the Endangered Species Act of 1973, as amended (ESA; 16 U.S.C. 1531 et seq.) and the regulations governing the taking, importing, and exporting of endangered and threatened species (50 CFR 222-226).

The applicant proposes to handle, measure, weigh, photograph, flipper tag, passive integrated transponder tag, skin biopsy, and release up to 110 green, 550 loggerhead, 195 Kemp's ridley, 110 hawksbill, 235 leatherback, 110 olive ridley, and 145 unidentified hardshell (combination of green, loggerhead, Kemp's ridley, hawksbill, olive ridley, or hybrids that would not be able to be identified at the time of capture) sea turtles annually. The applicant would sample turtles captured incidentally during other activities including the shark gillnet fishery, longline fisheries, the shrimp trawl fishery, and surveys during oil/gas platform removal. The capture would be authorized by the incidental take statements of the biological opinions that cover these activities. The research would provide data on the turtles that interact with these activities and provide data useful to better understanding turtle migration, habitat use, genetics, and population dynamics. The information would be used to develop, implement, and evaluate conservation recovery efforts for sea turtles. The research would take place in Atlantic Ocean, Gulf of Mexico, Caribbean Sea, and tributaries. The permit would be issued for 5 years.

Dated: October 13, 2005.
Carrie W. Hubard,
Acting Chief, Permits, Conservation and Education Division, Office of Protected Resources, National Marine Fisheries Service.

[FR Doc. 05-20894 Filed 10-18-05; 8:45 am]

BILLING CODE 3510-22-S